DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Maine Narrow Gage Railroad & Museum

[Docket Number FRA-2005-21014]

The Maine Narrow Gage Railroad & Museum (MNGR), a 2-foot gage museum railroad, seeks a waiver of compliance from the requirements of Title 49 Code of Federal Regulations (CFR) 230.51 Water glasses and gage cocks, number and location. The MNGR is not engaged in general railroad transportation, and provides only railroad tourist excursions on a limited schedule. The MNGR currently consists of approximately two miles of track, all located within the waterfront district of Portland, Maine, and adjacent to a park.

This waiver would be for MNGR locomotives numbers 3 and 4, and specifically requests that the minimum reading for the water glasses on these two locomotives be retained at 1½ inches above the highest part of the crown sheet as originally designed, constructed, and operated since 1912. The current requirement, as specified by title 49 CFR 230.51, requires a minimum water reading be visible at 3 inches above the highest part of the crown sheet. If locomotives numbers 3 and 4 are brought into compliance with the regulatory requirement, raising the water glasses would result in the top or full reading being equal height with the top of the boiler. Thus, when the water glass indicates full, there is very little remaining volume for steam to accumulate, and water may carry over into the dry pipe, an unsafe condition. In addition, the boilers on these two locomotives are 37⅛ inches in diameter, which is significantly smaller than that found on standard gage locomotives. The petitioner believes that due to the difference in boiler diameters, an equivalent level of safety exists with their water glass at 1½ inches above the highest part of the crown sheet when compared to a standard gage locomotive set at 3 inches.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2005-21014) and must be submitted in triplicate to the Docket Clerk, DOT Central Docket Management Facility, Room PL-401, Washington, DC 20590-0001. Communications received within 45 days of the date of this notice will be considered by FRA before final action is taken. Comments received after that date will be considered as far as practicable. All written communications concerning these proceedings are available for examination during regular business hours (9 a.m.-5 p.m.) at DOT Central Docket Management Facility, Room PL-401 (Plaza Level), 400 Seventh Street, SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on July 13, 2005.
Grady C. Cothen, Jr.,
Deputy Associate Administrator for Safety Standards and Program Development.

[FR Doc. 05-14344 Filed 7-20-05; 8:45 am]

BILLING CODE 4910-06-P